DEPARTMENT OF HOMELAND SECURITY

Federal Emergency Management Agency

44 CFR Part 67

[Docket ID FEMA-2008-0020; Internal Agency Docket No. FEMA-B-1066]

Proposed Flood Elevation Determinations

AGENCY: Federal Emergency Management Agency, DHS.

ACTION: Proposed rule; correction.

SUMMARY: On September 8, 2009, FEMA published in the Federal Register a proposed rule that contained an erroneous table. This notice provides corrections to that table, to be used in lieu of the information published at 74 FR 46047. The table provided here represents the flooding sources, location of referenced elevations, effective and modified elevations, and communities affected for York County, Maine (All Jurisdictions). Specifically, it addresses the following flooding sources: Atlantic Ocean, Bonny Eagle Pond, Cape Porpoise Harbor, Cleaves Cove, Coffin Brook, Coffin Brook Tributary 1, Driscoll Brook, Ferguson Brook, Goosefare Brook, Great East Lake, Jones Brook (backwater effects from Scarborough River), Keay Brook, Kennebunk River, Little Ossipee River, Little River, Little River (backwater effects from Scarborough River), Mill Brook (backwater effects from Scarborough River), Mousam River, Mulloy Brook, Piscataqua River, Portsmouth Harbor, Province Lake, Saco River, Salmon Falls River, Sampson Cove, Spruce Creek, Stump Pond, The Pool, Worster Brook, and Worster Brook Tributary 3.

DATES: Comments are to be submitted on or before November 16, 2010.

ADDRESSES: You may submit comments, identified by Docket No. FEMA-B-1066, to Roy E. Wright, Deputy Director, Risk Analysis Division, Federal Insurance and Mitigation Administration, Federal Emergency Management Agency, 500 C Street, SW., Washington, DC 20472, (202) 646-3461 or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461 or (e-mail) roy.e.wright@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a). These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 74 FR 46047 in the September 8, 2009, issue of the Federal Register, FEMA published a table under the authority of 44 CFR 67.4. The table entitled “York County, Maine (All Jurisdictions)” addressed the following flooding sources: Atlantic Ocean, Cape Porpoise Harbor, Cleaves Cove, Coffin Brook, Coffin Brook Tributary 1, Driscoll Brook, Ferguson Brook, Goosefare Brook, Keay Brook, Kennebunk River, Little River, Mulloy Brook, Piscataqua River (Town of Kittery), Portsmouth Harbor, Saco River, Sampson Cove, Spruce Creek, The Pool, Worster Brook, and Worster Brook Tributary 3. That table contained inaccurate information as to the location of referenced elevations, effective and modified elevations in feet, or communities affected for the flooding sources “Little River” and “Piscataqua River.” In addition, it did not include the following flooding sources: Bonny Eagle Pond, Great East Lake, Jones Brook (backwater effects from Scarborough River), Little Ossipee River, Little River (backwater effects from Scarborough River), Mill Brook (backwater effects from Scarborough River), Mousam River, Piscataqua River (Town of Eliot), Province Lake, Salmon Falls River, and Stump Pond. In this notice, FEMA is publishing a table containing the accurate information, to address these prior errors. The information provided below should be used in lieu of that previously published.

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
York County, Maine (All Jurisdictions)
Atlantic Ocean | Along the shoreline, at the intersection of Great Hill Road and Sand Dollar Lane | +11 | +12 | City of Biddeford, Town of Kennebunk, Town of Kennebunkport, Town of Kittery, Town of Ogunquit, Town of Old Orchard Beach, Town of Wells, Town of York.
| Along the shoreline, approximately 230 feet east of the intersection of Ocean View Lane and Ontio Way | +14 | +33
Bonny Eagle Pond | Entire shoreline within the Town of Buxton | None | +268 | Town of Buxton.
Cape Porpoise Harbor | Along the shoreline, at the intersection of Paddy Creek Road and Paddy Creek Hill Road | +8 | +9 | Town of Kennebunkport.
| Along the shoreline, approximately 330 feet east of the terminus of Harbor Drive | +13 | +17
Cleaves Cove | Along the shoreline, approximately 400 feet from the intersection of Turbats Creek Road and Field Point Road | None | +13 | Town of Kennebunkport.
| Along the shoreline, at the terminus of Halcyon Drive | +13 | +22
Coffin Brook | Just upstream of the confluence with Worster Brook | None | +133 | Town of Berwick.
| Approximately 1.63 mile upstream of the confluence with Worster Brook | None | +254
Coffin Brook Tributary 1 | Just upstream of the confluence with Coffin Brook | None | +141 | Town of Berwick.
| Just downstream of Cemetery Road | None | +320
Driscoll Brook | Approximately 465 feet east of the intersection of State Route 236 and railroad | None | +85 | Town of Berwick, Town of South Berwick.
| Just downstream of Blackberry Hill Road | None | +159
Ferguson Brook | Just upstream of the confluence with Worster Brook | None | +117 | Town of Berwick.
| Just downstream of Cemetery Road | None | +326
Goosefare Brook | Along the shoreline, at the intersection of Royal Street and Massachusetts Avenue | +8 | +9 | Town of Old Orchard Beach.
| Along the shoreline, at the intersection of New Salt Road and Grand Avenue | None | +15
Great East Lake | Entire shoreline within the Town of Acton | None | +575 | Town of Acton.
Jones Brook (backwater effects from Scarborough River) | From the Cumberland County boundary to approximately 0.7 mile upstream of the Cumberland County boundary | +7 | +9 | Town of Old Orchard Beach.
Keay Brook | Just upstream of the confluence with the Salmon Falls River. | None | +186 | Town of Berwick.
| Approximately 890 feet south of the terminus of Richardson Drive | None | +250
Kennebunk River | Approximately 340 feet south of the terminus of Old Boston Road | None | +9 | Town of Arundel.
Little Ossipee River | Approximately 0.6 mile upstream of Sand Pond Road | None | +287 | Town of Hollis.
| Approximately 0.9 mile upstream of Sand Pond Road | None | +287
Little River | Just upstream of the confluence with the Salmon Falls River | None | +183 | Town of Berwick, Town of North Berwick.
| Just upstream of the intersection of Little River Road and Dark Hollow Lane | None | +249
Little River (backwater effects from Scarborough River) | From the confluence with Mill Brook to approximately 1.4 mile upstream of the confluence with Mill Brook | +7 | +9 | Town of Old Orchard Beach.
Mill Brook (backwater effects from Scarborough River) | From the confluence with Jones Brook to approximately 0.8 mile upstream of the confluence with Jones Brook | +7 | +9 | Town of Old Orchard Beach.
Mousam River | Approximately 1,900 feet downstream of Main Street (U.S. Route 1) | None | +9 | Town of Kennebunk.
| Approximately 1,000 feet upstream of Mill Street | None | +89
Mulloy Brook | Just upstream of the confluence with Worster Brook | None | +142 | Town of Berwick.
| Approximately 1.1 mile upstream of the confluence with Worster Brook | None | +304
Piscataqua River | Along the shoreline, approximately 270 feet south of the intersection of Langston Street and Prince Avenue | +8 | +9 | Town of Kittery.
| Along the shoreline, approximately 560 feet west of the intersection of Langston Street and Prince Avenue | +8 | +14
Piscataqua River | Just upstream of I-95, at the confluence with Spinney Creek | +8 | +9 | Town of Eliot.
| Approximately 100 feet downstream of Leach Road | +8 | +9
Portsmouth Harbor | Along the shoreline, approximately 165 feet east of the intersection of Haley Road and Pepperrell Road | +8 | +9 | Town of Kittery.
| Along the shoreline, approximately 390 feet east of the intersection of Bellamy Lane and Pepperrell Road | +14 | +22
Province Lake | Entire shoreline within the Town of Parsonsfield | None | +481 | Town of Parsonsfield.
Saco River | Along the shoreline, at the terminus of Crestwood Drive | +8 | +9 | City of Biddeford.
| Along the shoreline, at the terminus of Reserved Lane | +13 | +16
Salmon Falls River | Approximately 2.7 miles upstream of New Bridge Road, at the corporate limits | None | +420 | Town of Acton.
| Just downstream of State Route 109 | None | +511
Sampson Cove | Along the shoreline, approximately 1,200 feet east of the intersection of Marshall Point Road and Mills Road | +8 | +14 | Town of Kennebunkport.
| Along the shoreline, approximately 720 feet east of the intersection of Fishers Lane and Agamenticus Avenue | +15 | +17
Spruce Creek | Along the shoreline, approximately 920 feet north of the intersection of Whipple Road and Newson Avenue | +8 | +9 | Town of Kittery.
| Along the shoreline, approximately 920 feet north of the intersection of Whipple Road and Newson Avenue | +8 | +13
Stump Pond | Entire shoreline within the Town of Newfield. | None | +559 | Town of Newfield.
The Pool | Along the shoreline, approximately 560 feet from the intersection of Days Landing and Dory Lane | None | +9 | City of Biddeford.
| Along the shoreline, approximately 490 feet from the intersection of Winter Harbor Lane and Bridge Road | +8 | +11
Worster Brook | Just upstream of the confluence with the Salmon Falls River | None | +76 | Town of Berwick.
| Approximately 5.8 miles upstream of the confluence with the Salmon Falls River | None | +228
Worster Brook Tributary 3 | Just upstream of the confluence with Worster Brook | None | +194 | Town of Berwick.
| Just downstream of Thompson Hill Road | None | +310
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Biddeford
Maps are available for inspection at City Hall, 205 Main Street, Biddeford, ME 04005.
Town of Acton
Maps are available for inspection at 35 H Road, Acton, ME 04001.
Town of Arundel
Maps are available for inspection at the Town Hall, 468 Limerick Road, Arundel, ME 04046.
Town of Berwick
Maps are available for inspection at the Town Hall, 11 Sullivan Square, Berwick, ME 03901.
Town of Buxton
Maps are available for inspection at the Town Hall, 185 Portland Road, Buxton, ME 04093.
Town of Eliot
Maps are available for inspection at the Town Hall, 1333 State Road, Eliot, ME 03903.
Town of Hollis
Maps are available for inspection at the Town Hall, 34 Town Farm Road, Hollis, ME 04042.
Town of Kennebunk
Maps are available for inspection at the Town Hall, 1 Summer Street, Kennebunk, ME 04043.
Town of Kennebunkport
Maps are available for inspection at the Town Hall, 6 Elm Street, Kennebunkport, ME 04046.
Town of Kittery
Maps are available for inspection at the Town Hall, 200 Rogers Road, Kittery, ME 03904.
Town of Newfield
Maps are available for inspection at 637 Water Street, West Newfield, ME 04095.
Town of North Berwick
Maps are available for inspection at the Town Hall, 21 Main Street, North Berwick, ME 03906.
Town of Ogunquit
Maps are available for inspection at the Town Hall, 23 School Street, Ogunquit, ME 03907.
Town of Old Orchard Beach
Maps are available for inspection at the Town Hall, 1 Portland Avenue, Old Orchard Beach, ME 04064.
Town of Parsonsfield
Maps are available for inspection at the Town Hall, 62 Federal Road, Parsonsfield, ME 04047.
Town of South Berwick
Maps are available for inspection at the Town Hall, 180 Main Street, South Berwick, ME 03908.
Town of Wells
Maps are available for inspection at the Town Hall, 208 Sanford Road, Wells, ME 04090.
Town of York
Maps are available for inspection at the Town Hall, 186 York Street, York, ME 03909.

(Catalog of Federal Domestic Assistance No. 97.022, “Flood Insurance.”)

Dated: August 10, 2010.
Sandra K. Knight,
Deputy Federal Insurance and Mitigation Administrator, Mitigation, Department of Homeland Security, Federal Emergency Management Agency.

[FR Doc. 2010-20410 Filed 8-17-10; 8:45 am]

BILLING CODE 9110-12-P